DEPARTMENT OF LABOR

Occupational Safety and Health Administration

29 CFR Part 1926

[Docket No. H023]

RIN 1218-AC18

Notice of a Regulatory Flexibility Act Review of Lead in Construction

AGENCY: Occupational Safety and Health Administration, Labor.

ACTION: Extension of comment period.

SUMMARY: The Occupational Safety and Health Administration (OSHA) is conducting a review of the lead in construction standard, 29 CFR 1926.62, under Section 610 of the Regulatory Flexibility Act and Section 5 of Executive Order 12866 on Regulatory Planning and Review. On June 6 (70 FR 32739-42), OSHA requested comments for that review, provided background and gave information on the issues. Requests have been received to extend the comment period to permit the public more time to gather and submit information. Accordingly, OSHA is extending the period.

DATES: Written comments to OSHA must be sent or postmarked by November 7, 2005.

ADDRESSES: You may submit three copies of your written comments to the OSHA Docket Office, Docket No. H023, Technical Data Center, Room N-2625, U.S. Department of Labor, 200 Constitution Avenue NW., Washington, DC 20210; telephone (202) 693-2350. If your written comments are 10 pages or fewer, you may fax them to the OSHA Docket Office at (202) 693-1648. You do not have to send OSHA a hard copy of your faxed comments. Supplemental information such as studies and journal articles cannot be attached. Instead, three copies of each study, article, or other supplemental document must be sent to the OSHA Docket Office at the address above. These materials must clearly identify the associated comments to which they will be attached in the docket by the following information: Name of person submitting comments; date of comment submission; subject of comments; and docket number to which comments belong.

You may submit comments electronically at either of the following:

• Federal eRulemaking Portal: http://www.regulations.gov. Follow the instructions for submitting comments.

• OSHA Web Site: http://ecomments.osha.gov. Follow the instructions for submitting comments on OSHA's Web page.

Please note that you may not attach materials such as studies or journal articles to your electronic comments. If you wish to include such materials, you must submit three copies of the material to the OSHA Docket Office at the above address. When submitting such material to the OSHA Docket Office, you must clearly identify your electronic comments by name, date, subject, and docket number so that the Docket Office can attach the materials to your electronic comments.

Note that security-related problems may result in significant delays in receiving comments and other materials by regular mail. Telephone the OSHA Docket Office at (202) 693-2350 for information regarding security procedures concerning delivery of materials by express delivery, hand delivery, and messenger service.

All comments and submissions will be available for inspection and copying in the OSHA Docket Office at the address above. Most comments and submissions will be posted on OSHA's Web page (http://www.osha.gov). Contact the OSHA Docket Office at (202) 693-2350 for information about materials not available on the OSHA Web page and for assistance in using this Web page to locate docket submissions. Because comments sent to the docket or to OSHA's Web page are available for public inspection, the Agency cautions interested parties against including in these comments personal information, such as social security numbers and birth dates.

FOR FURTHER INFORMATION CONTACT: Joanna Dizikes Friedrich, Directorate of Evaluation and Analysis, Occupational Safety and Health Administration, Room N-3641, 200 Constitution Avenue NW., Washington, DC 20210, Telephone (202) 693-1939, Fax (202) 693-1641.

Authority: This document was prepared under the direction of Jonathan L. Snare, Deputy Assistant Secretary of Labor for Occupational Safety and Health, 200 Constitution Avenue, NW., Washington, DC 20210. It is issued under Section 610 of the Regulatory Flexibility Act (5 U.S.C. 610) and Section 5 of Executive Order 12866 (59 FR 51724, October 4, 1993).

Signed at Washington, DC, this 22nd day of August, 2005.
Jonathan L. Snare,
Deputy Assistant Secretary of Labor.

[FR Doc. 05-17067 Filed 8-26-05; 8:45 am]

BILLING CODE 4510-26-P